FEDERAL COMMUNICATIONS COMMISSION

[FRS 17256]

Open Commission Meeting, Wednesday, November 18, 2020

November 10, 2020.

The Federal Communications Commission held an Open Meeting on the subjects listed below on Wednesday, November 18, 2020, at 10:30 a.m. Due to the current COVID-19 pandemic and related agency telework and headquarters access policies, this meeting was in a wholly electronic format and was open to the public on the internet via live feed from the FCC's web page at www.fcc.gov/live and on the FCC's YouTube channel.

Item No. | Bureau | Subject
1 | OFFICE OF ENGINEERING AND TECHNOLOGY | TITLE: Modernizing the 5.9 GHz Band (ET Docket No. 19-138).
|  | SUMMARY: The Commission considered a First Report and Order, Further Notice of Proposed Rulemaking, and Order of Proposed Modification that would adopt rules to repurpose 45 megahertz of spectrum in the 5.850-5.895 GHz band for unlicensed operations, retain 30 megahertz of spectrum in the 5.895-5.925 GHz band for the Intelligent Transportation Systems (ITS) service, and require the transition of the ITS radio service standard from Dedicated Short-Range Communications technology to Cellular Vehicle-to-Everything technology.
2 | INTERNATIONAL | TITLE: Further Streamlining of Satellite Regulations (IB Docket No. 18-314).
|  | SUMMARY: The Commission considered a Report and Order that would streamline its satellite licensing rules by creating an optional framework for authorizing space stations and blanket-licensed earth stations through a unified license.
3 | INTERNATIONAL | TITLE: Facilitating Next Generation Fixed-Satellite Services in the 17 GHz Band (IB Docket No. 20-330).
|  | SUMMARY: The Commission considered a Notice of Proposed Rulemaking that would propose to add a new allocation in the 17.3-17.8 GHz band for Fixed-Satellite Service space-to-Earth downlinks and to adopt associated technical rules.
4 | CONSUMER & GOVERNMENTAL AFFAIRS | TITLE: Telecommunications Relay Services and Speech-to-Speech Services for Individuals with Hearing and Speech Disabilities (CG Docket No. 03-123); Structure and Practices of the Video Relay Service Program (CG Docket No. 10-51); and Misuse of Internet Protocol Relay Service (CG Docket No. 12-38).
|  | SUMMARY: The Commission considered a Notice of Proposed Rulemaking that would propose expansion of the Telecommunications Relay Services (TRS) Fund contribution base for supporting Video Relay Service (VRS) and Internet Protocol Relay Service (IP Relay) to include intrastate telecommunications revenue, as a way of strengthening the funding base for these forms of TRS and making it more equitable without increasing the size of the Fund itself.
5 | MEDIA | TITLE: Revision of the Commission's Part 76 Review Procedures (MB Docket No. 20-70); Modernization of Media Regulation Initiative (MB Docket No. 17-105); and Revision of the Commission's Program Carriage Rules (MB Docket No. 11-131).
|  | SUMMARY: The Commission considered a Report and Order that would modify the Commission's rules governing the resolution of program carriage disputes between video programming vendors and multichannel video programming distributors.
6 | WIRELESS TELE-COMMUNICATIONS AND OFFICE OF GENERAL COUNSEL | TITLE: Licensing Matter.
|  | SUMMARY: The Commission considered a licensing matter.
7 | ENFORCEMENT | TITLE: Enforcement Bureau Action.
|  | SUMMARY: The Commission considered an enforcement action.

The meeting was webcast with open captioning at: www.fcc.gov/live. Open captioning was provided as well as a text only version on the FCC website. Other reasonable accommodations for people with disabilities were available upon request.

Additional information concerning this meeting may be obtained from the Office of Media Relations, (202) 418-0500. Audio/Video coverage of the meeting was broadcast live with open captioning over the internet from the FCC Live web page at www.fcc.gov/live.

Federal Communications Commission.
Marlene Dortch,
Secretary.

[FR Doc. 2020-25876 Filed 11-23-20; 8:45 am]

BILLING CODE 6712-01-P